DEPARTMENT OF THE TREASURY

Office of Foreign Assets Control

31 CFR Part 537

Burmese Sanctions Regulations

AGENCY: Office of Foreign Assets Control, Treasury.

ACTION: Final rule.

SUMMARY: The Office of Foreign Assets Control of the U.S. Department of the Treasury (“OFAC”) is amending the Burmese Sanctions Regulations, 31 CFR 537, to add new § 537.527, which sets forth a statement of OFAC licensing policy with respect to the issuance of specific licenses for the importation of Burmese origin animals and specimens, in sample quantities only, for bona fide scientific research and analysis purposes.

DATES: Effective Date: June 22, 2007.

FOR FURTHER INFORMATION CONTACT: Assistant Director for Licensing, tel.: 202/622-2480, Assistant Director for Compliance Outreach & Implementation, tel.: 202/622-2490, Assistant Director for Policy, tel.: 202/622-4855, Office of Foreign Assets Control, or Chief Counsel (Foreign Assets Control), tel.: 202/622-2410, Office of the General Counsel, Department of the Treasury, Washington, DC 20220 (not toll free numbers).

SUPPLEMENTARY INFORMATION:

Electronic and Facsimile Availability

This document and additional information concerning the Office of Foreign Assets Control are available from OFAC's Web site (http://www.treas.gov/ofac) or via facsimile through a 24-hour fax-on demand service, tel.: (202) 622-0077.

Background

The Office of Foreign Assets Control (“OFAC”) promulgated the Burmese Sanctions Regulations, 31 CFR part 537 (the “Regulations”), on May 21, 1998, to implement Executive Order 13047 of May 20, 1997 (“E.O. 13047”), in which the President declared a national emergency with respect to the actions and policies of the Government of Burma, including the large-scale repression of the democratic opposition in Burma after September 30, 1996. To deal with that emergency, E.O. 13047 prohibited new investment in Burma by U.S. persons.

On July 28, 2003, the Burmese Freedom and Democracy Act of 2003 (the “BFDA”) was signed into law to restrict the financial resources of Burma's ruling military junta, the State Peace and Development Council. Section 3(a) of the BFDA requires the President to ban the importation into the United States of any article that is a product of Burma. Section 3(b) of the BFDA, however, permits the President to waive the importation prohibition for any or all articles that are a product of Burma if the President determines that such a waiver is in the national interest of the United States and notifies the appropriate Congressional committees.

To implement the BFDA and to take additional steps with respect to the Government of Burma's continued repression of the democratic opposition in Burma and with respect to the national emergency declared in E.O. 13047, the President issued Executive Order 13310 (“E.O. 13310”) on July 28, 2003. Section 3 of E.O. 13310 implements the importation ban set forth in section 3(a) of the BFDA. Section 9 of E.O. 13310 delegates the President's waiver authority under section 3(b) of the BFDA to the Secretary of State and authorizes the Secretary of the Treasury to take such actions, including the promulgation of rules and regulations, as may be necessary to carry out the purposes of the order. The Secretary of the Treasury has, in turn, authorized the Director of OFAC to take these actions. 31 CFR 537.802. Accordingly, on August 16, 2005, OFAC promulgated amendments to the Regulations to implement the provisions of E.O. 13310. Section 537.203 of the Regulations prohibits the importation into the United States of any article that is a product of Burma.

On August 4, 2006, in accordance with section 3(b) of the BFDA and section 9 of E.O. 13310, the Department of State determined that it is in the national interest of the United States to waive the importation prohibition of the BFDA for animals and specimens of Burmese origin, in sample quantities only, that are imported for bona fide scientific research and analysis purposes. The purpose of this waiver was to allow OFAC to issue licenses authorizing such imports on a case-by-case basis. Consistent with section 3(b) of the BFDA, notification of the Department of State's waiver determination was provided to the appropriate committees of Congress.

Based on this determination, OFAC is amending the Regulations to add a new § 537.527, setting forth a statement of licensing policy. Section 537.527 provides that specific licenses may be issued on a case-by-case basis authorizing the importation into the United States of animals and specimens of Burmese origin, in sample quantities only, for bona fide scientific research and analysis purposes.

Public Participation

Because the amendment of the Regulations involves a foreign affairs function, Executive Order 12866 and the provisions of the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 537

Administrative practice and procedure, Banks, Banking, Burma, Currency, Foreign investments in United States, Foreign trade, Penalties, Reporting and recordkeeping requirements, Securities.

For the reasons set forth in the preamble, the Office of Foreign Assets Control amends 31 CFR part 537 to read as follows:

PART 537—BURMESE SANCTIONS REGULATIONS

1. The authority citation for part 537 is revised to read as follows:

Authority: 3 U.S.C. 301; 31 U.S.C. 321(b); 50 U.S.C. 1601-1651, 1701-1706; Sec. 570, Pub. L. 104-208, 110 Stat. 3009; Pub. L. 108-61, 117 Stat. 864; Pub. L. 109-177, 120 Stat. 192; E.O. 13047, 62 FR 28301, 3 CFR, 1997 Comp., p. 202; E.O. 13310, 68 FR 44853, 3 CFR, 2004 Comp., p. 241.

Subpart E—Licenses, Authorizations, and Statements of Licensing Policy

2. Add a new § 537.527 to read as follows:

§ 537.527 Importation into the United States of Burmese-origin animals and specimens.

Specific licenses may be issued on a case-by-case basis authorizing the importation into the United States of animals and specimens of Burmese origin, in sample quantities only, for bona fide scientific research and analysis purposes.

Dated: May 16, 2007.
Adam J. Szubin,
Director, Office of Foreign Assets Control.

[FR Doc. E7-12148 Filed 6-21-07; 8:45 am]

BILLING CODE 4811-42-P